DEPARTMENT OF COMMERCE

Patent and Trademark Office

Public Key Infrastructure (PKI) Certificate Action Form

ACTION: Proposed collection; comment request.

SUMMARY: The United States Patent and Trademark Office (USPTO), as required by the Paperwork Reduction Act of 1995, invites comments on a proposed extension of an existing information collection: 0651-0045 (Public Key Infrastructure (PKI) Certificate Action Form).

DATES: Written comments must be submitted on or before March 30, 2018.

ADDRESSES: You may submit comments by any of the following methods:

• Email: InformationCollection@uspto.gov. Include “0651-0045 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Richard Arnold, Security Authorizations Branch, United States Patent and Trademark Office, P.O. Box 1450, Alexandria, VA 22313-1450; by telephone at 571-270-0539; or by email to Richard.Arnold@uspto.gov. Additional information about this collection is also available at http://www.reginfo.gov under “Information Collection Review.”

SUPPLEMENTARY INFORMATION:

I. Abstract

The United States Patent and Trademark Office (USPTO) uses Public Key Infrastructure (PKI) technology to support electronic commerce between the USPTO and its customers. PKI is a set of hardware, software, policies, and procedures that provide important security services for the electronic business activities of the USPTO, including protecting the confidentiality of unpublished patent applications in accordance with 35 U.S.C. 122 and 37 CFR 1.14, as well as protecting international patent applications in accordance with Article 30 of the Patent Cooperation Treaty.

In order to provide the necessary security for its electronic commerce systems, the USPTO uses PKI technology to protect the integrity and confidentiality of information submitted to the USPTO. PKI employs public and private encryption keys to authenticate the customer's identity and support secure electronic communication between the customer and the USPTO. Customers may submit a request to the USPTO for a digital certificate, which enables the customer to create the encryption keys necessary for electronic identity verification and secure transactions with the USPTO. This digital certificate is required in order to access any secure online systems that the USPTO provides, including the systems for electronic filing of patent applications and viewing confidential information about unpublished patent applications.

This information collection covers the Certificate Action Form (PTO-2042), which is used by the public to request a new digital certificate, revoke a current certificate, or recover a lost or corrupted certificate. Customers may also change the name listed on the certificate or associate the certificate with one or more Customer Numbers. A Customer Number allows an applicant to associate all correspondence and USPTO actions regarding multiple patent applications to a single address and name. The Certificate Action Form must include a notarized signature in order to verify the identity of the applicant. The Certificate Action Form has an accompanying subscriber agreement to ensure that customers understand their obligations regarding the use of the digital certificates and cryptographic software. When generating a new certificate, customers also register to receive a set of seven codes that will enable customers to recover a lost certificate online without having to contact USPTO support staff.

II. Method of Collection

The Certificate Action Form must be notarized and may be mailed or hand delivered to the USPTO.

III. Data

OMB Number: 0651-0045.

IC Instruments and Forms: PTO-2042.

Type of Review: Revision of a currently approved collection.

Affected Public: Individuals or households; businesses or other for-profits; and not-for-profit institutions.

Estimated Number of Respondents: 3,825 responses per year.

Estimated Time per Response: The USPTO estimates that it will take the public approximately 30 minutes (0.50 hours) to read the instructions and subscriber agreement, gather the necessary information, prepare the Certificate Action Form, and submit the completed request.

Estimated Total Annual Respondent Burden Hours: 1,912.50 hours.

Estimated Total Annual Respondent Cost Burden: $402,084. The USPTO expects that attorneys, paraprofessionals, and independent inventors will complete the submissions for this collection. The professional hourly rate for attorneys is $438, for paraprofessionals is $145, and for independent inventors is $47.71. The attorney rate is established by estimates in the 2017 Report on the Economic Survey, published by the Committee on Economics of Legal Practice of the American Intellectual Property Law Association. The paraprofessional rate is established by estimates in the 2016 National Utilization and Compensation Survey, published by the National Association of Legal Assistance (NALA). The independent inventor rate is based the mean hourly wage for engineers according to the Bureau of Labor Statistics Occupational Employment Statistics (17-2199). The USPTO estimates that the combined average hourly rate of these estimates for all respondents is approximately $210.24. Using this hourly rate, the USPTO estimates that the total respondent cost burden for this collection is $402,804 per year.

IC No. | Item | Annual response time (hours) | Annual response | Annual burden hours | Rate | Annual cost burden
|  | (a) | (b) | (c) = (a) × (b) | (d) | (e) = (c) × (d)
1 | Certificate Action Form (including Subscriber Agreement) | 0.50 (30 minutes) | 3,825 | 1,912.50 | $210.24 | $402,084.00
Totals |  |  | 3,825 | 1,915.50 |  | 402,084.00

Estimated Total Annual Non-hour Respondent Cost Burden: $24,824.25. There are no capital start-up costs, maintenance costs, or fees associated with this information collection. However, this collection does have annual (non-hour) cost burden associated with the Certificate Action Form.

This collection has costs due to the notarization requirement for authenticating the signatures on the Certificate Action Form. The USPTO estimates that the average fee for having a signature notarizing is $6 and 3,825 responses for these forms will be submitted annually, for a total cost of $22,950 per year. The notary fee was determined based on estimates for notary fees by states as published by the National Notary Association.

This collection also has postage costs for submitting the Certificate Action Form to the USPTO by mail. The form cannot be faxed or submitted electronically because it requires an original notarized signature. The USPTO estimates that the first class postage cost for these forms will be $0.49 and that it will receive 3,825 mailed responses annually for a total postage cost of approximately $1,874.25 per year.

IV. Request for Comments

Comments submitted in response to this notice will be summarized or included in the request for OMB approval of this information collection; they also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO United States Patent and Trademark Office.

[FR Doc. 2018-01612 Filed 1-26-18; 8:45 am]

BILLING CODE 3510-16-P